DEPARTMENT OF ENERGY

Federal Energy Regulatory Commission

Combined Notice of Filings #1

March 3, 2010.

Take notice that the Commission received the following exempt wholesale generator filings:

Docket Numbers: EG10-24-000.

Applicants: El Cajon Energy, LLC.

Description: Self Certification Notice of Exempt Wholesale Generator Status of El Cajon Energy, LLC.

Filed Date: 03/03/2010.

Accession Number: 20100303-5015.

Comment Date: 5 p.m. Eastern Time on Wednesday, March 24, 2010.

Take notice that the Commission received the following electric rate filings:

Docket Numbers: ER99-705-005; ER97-3583-004.

Applicants: Golden Spread Electric Cooperative, Inc.; GS Electric Generating Cooperative Inc.

Description: Golden Spread Electric Cooperative, Inc et al. submits an Updated Market Power Analysis.

Filed Date: 03/01/2010.

Accession Number: 20100302-0221.

Comment Date: 5 p.m. Eastern Time on Friday, April 30, 2010.

Docket Numbers: ER01-560-015; ER00-1780-011; ER00-840-012; ER01-137-010; ER01-2641-015; ER01-2690-013; ER01-557-015; ER01-559-015; ER01-596-009; ER02-1942-012; ER02-2509-010; ER02-553-013; ER02-77-013; ER02-963-013; ER03-720-014; ER05-524-008; ER09-43-002; ER94-389-034; ER98-1767-018; ER99-2992-011; ER99-3165-012.

Applicants: Big Sandy Peaker Plant, LLC, Tenaska Alabama II Partners, L.P., Tenaska Alabama Partners, L.P., Tenaska Georgia Partners, L.P., Tenaska Frontier Partners, Ltd., High Desert Power Project LLC, Tenaska Power Services Co., Wolf Hills Energy, LLC, Rolling Hills Generating L.L.C., Tenaska Washington Partners, L.P., Lincoln Generating Facility, LLC, Alabama Electric Marketing, LLC, California Electric Marketing, LLC, Crete Energy Venture, LLC, Kiowa Power Partners, L.L.C., Tenaska Gateway Partners, Ltd., Tenaska Virginia Partners, LP, University Park Energy, LLC, New Covert Generating Co., LLC, New Mexico Electric Marketing, LLC, Texas Electric Marketing, LLC.

Description: Supplement to Clarify July 30, 2009 Quarterly Report Pursuant to 18 CFR Section 35.42(d) of Alabama Electric Marketing, LLC, et. al.

Filed Date: 03/02/2010.

Accession Number: 20100302-5088.

Comment Date: 5 p.m. Eastern Time on Tuesday, March 23, 2010.

Docket Numbers: ER04-1220-001.

Applicants: Caprock Wind LLC.

Description: Caprock Wind LLC submits its application requesting that the Commission make a finding that it qualifies as a Category 1 Seller in the Southwest Power Pool Region.

Filed Date: 03/01/2010.

Accession Number: 20100302-0216.

Comment Date: 5 p.m. Eastern Time on Monday, March 22, 2010.

Docket Numbers: ER05-1389-006; ER07-645-003; ER07-301-003.

Applicants: San Juan Mesa Wind Project, LLC; Sleeping Bear, LLC; Wildorado Wind, LLC.

Description: San Juan Mesa Wind Project, LLC et al. submits the Updated Market Power Analysis for the Southwest Power Pool Region.

Filed Date: 03/01/2010.

Accession Number: 20100302-0217.

Comment Date: 5 p.m. Eastern Time on Friday, April 30, 2010.

Docket Numbers: ER07-751-002.

Applicants: LEA POWER PARTNERS, LLC.

Description: Lea Power Partners, LLC submits the Updated Market Power Analysis and Order 697 Compliance Filing.

Filed Date: 03/01/2010.

Accession Number: 20100302-0215.

Comment Date: 5 p.m. Eastern Time on Friday, April 30, 2010.

Docket Numbers: ER10-45-001.

Applicants: Southwest Power Pool, Inc.

Description: Southwest Power Pool, Inc submits revised pages to its Open Access Transmission Tariff.

Filed Date: 03/02/2010.

Accession Number: 20100302-0222.

Comment Date: 5 p.m. Eastern Time on Tuesday, March 23, 2010.

Docket Numbers: ER10-149-003; ER05-487-008; ER03-1332-007; ER03-1333-008; ER01-1972-011; ER09-832-006; ER10-1-002.

Applicants: Elk City Wind, LLC; FPL Energy Cowboy Wind, LLC; FPL Energy Oklahoma Wind, LLC; FPL Energy Sooner Wind, LLC; Gray County Wind Energy, LLC; NextEra Energy Power Marketing, LLC; High Majestic Wind Energy Center, LLC.

Description: NextEra Companies submits triennial market power update for the Southwest Power Pool Region with respect to each company's authority as applicable, to sell energy et al.

Filed Date: 03/01/2010.

Accession Number: 20100302-0218.

Comment Date: 5 p.m. Eastern Time on Friday, April 30, 2010.

Docket Numbers: ER10-607-002; ER10-608-002; ER10-609-002; ER10-610-002; ER10-611-002; ER10-612-002.

Applicants: Coalinga Cogeneration Company; Kern River Cogeneration Company; Salinas River Cogeneration Company; Mid-Set Cogeneration Company; Sycamore Cogeneration Company; Sargent Canyon Cogeneration Company.

Description: Coalinga Cogeneration Company et al. submits revised tariff sheets to supplement the 1/20/2010 filing.

Filed Date: 03/01/2010.

Accession Number: 20100302-0223.

Comment Date: 5 p.m. Eastern Time on Monday, March 22, 2010.

Docket Numbers: ER10-815-000.

Applicants: Avista Corporation.

Description: Avista Corp submits a non-conforming Long-Term Firm Point-to-Point Service Agreement.

Filed Date: 03/01/2010.

Accession Number: 20100302-0219.

Comment Date: 5 p.m. Eastern Time on Monday, March 22, 2010.

Docket Numbers: ER10-816-000.

Applicants: Xcel Energy Services Inc.

Description: Public Service Company of Colorado submits Second Revised Sheet 324 et al.

Filed Date: 03/01/2010.

Accession Number: 20100302-0220.

Comment Date: 5 p.m. Eastern Time on Monday, March 22, 2010.

Docket Numbers: ER10-818-000.

Applicants: Entergy Power, LLC.

Description: Entergy Power, LLC submits Rate Schedule No 49.

Filed Date: 03/02/2010.

Accession Number: 20100303-0201.

Comment Date: 5 p.m. Eastern Time on Tuesday, March 23, 2010.

Docket Numbers: ER10-819-000.

Applicants: ISO New England Inc.

Description: Iso New England Inc submits letter re-reconciled tariff sheets for compliance with Order 614.

Filed Date: 03/02/2010.

Accession Number: 20100303-0202.

Comment Date: 5 p.m. Eastern Time on Tuesday, March 23, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-5057 Filed 3-9-10; 8:45 am]

BILLING CODE 6717-01-P